DEPARTMENT OF ENERGY

Federal Energy Regulatory Commission

Combined Notice of Filings

Take notice that the Commission has received the following Natural Gas Pipeline Rate and Refund Report filings:

Filings Instituting Proceedings

Docket Numbers: RP17-972-000.

Applicants: Wyoming Interstate Company, L.L.C.

Description: Report Filing: Refund Report under Docket Nos. RP17-972 and RP17-302.

Filed Date: 1/31/18.

Accession Number: 20180131-5043.

Comments Due: 5 p.m. ET 2/12/18.

Docket Numbers: RP18-383-000.

Applicants: Nautilus Pipeline Company, L.L.C.

Description: Tariff Cancellation: Nautilus Cancellation of Sheet-Based Tariff to be effective 3/15/2018.

Filed Date: 1/31/18.

Accession Number: 20180131-5018.

Comments Due: 5 p.m. ET 2/12/18.

Docket Numbers: RP18-384-000.

Applicants: Algonquin Gas Transmission, LLC.

Description: § 4(d) Rate Filing: Negotiated Rate—Norwich to Direct Energy—795741 to be effective 2/1/2018.

Filed Date: 1/31/18.

Accession Number: 20180131-5020.

Comments Due: 5 p.m. ET 2/12/18.

Docket Numbers: RP18-385-000.

Applicants: KPC Pipeline, LLC.

Description: § 4(d) Rate Filing: Proposed Revision to Rate Schedule PAL to be effective 3/4/2018.

Filed Date: 1/31/18.

Accession Number: 20180131-5021.

Comments Due: 5 p.m. ET 2/12/18.

Docket Numbers: RP18-386-000.

Applicants: Texas Eastern Transmission, LP.

Description: § 4(d) Rate Filing: Negotiated Rate—BP Energy k911483 to be effective 2/1/2018.

Filed Date: 1/31/18.

Accession Number: 20180131-5030.

Comments Due: 5 p.m. ET 2/12/18.

Docket Numbers: RP18-387-000.

Applicants: Algonquin Gas Transmission, LLC.

Description: § 4(d) Rate Filing: Negotiated Rates—Falcon Release to Twin Eagle to be effective 2/1/2018.

Filed Date: 1/31/18.

Accession Number: 20180131-5031.

Comments Due: 5 p.m. ET 2/12/18.

Docket Numbers: RP18-388-000.

Applicants: Transwestern Pipeline Company, LLC.

Description: Compliance filing Penalty Refund Report on 1-31-18.

Filed Date: 1/31/18.

Accession Number: 20180131-5045.

Comments Due: 5 p.m. ET 2/12/18.

Docket Numbers: RP18-389-000.

Applicants: Sierrita Gas Pipeline LLC.

Description: Compliance filing Sierrita Cost and Revenue Study under Docket No. CP13-73-000.

Filed Date: 1/31/18.

Accession Number: 20180131-5052.

Comments Due: 5 p.m. ET 2/12/18.

Docket Numbers: RP18-390-000.

Applicants: Rockies Express Pipeline LLC.

Description: § 4(d) Rate Filing: Neg Rate 2018-01-31 BP(2),CP, Encana to be effective 2/1/2018.

Filed Date: 1/31/18.

Accession Number: 20180131-5079.

Comments Due: 5 p.m. ET 2/12/18.

Docket Numbers: RP18-391-000.

Applicants: Algonquin Gas Transmission, LLC.

Description: § 4(d) Rate Filing: Negotiated Rates—Plymouth Rock to Twin Eagle releases to be effective 2/1/2018.

Filed Date: 1/31/18.

Accession Number: 20180131-5081.

Comments Due: 5 p.m. ET 2/12/18.

Docket Numbers: RP18-392-000.

Applicants: El Paso Natural Gas Company, L.L.C.

Description: § 4(d) Rate Filing: Negotiated Rate Agreement Update Filing (TGS Feb 2018) to be effective 2/1/2018.

Filed Date: 1/31/18.

Accession Number: 20180131-5082.

Comments Due: 5 p.m. ET 2/12/18.

Docket Numbers: RP18-393-000.

Applicants: Tennessee Gas Pipeline Company, L.L.C.

Description: § 4(d) Rate Filing: Clean Up Tariff Sheet Effective Dates—2017 to be effective 11/1/2017.

Filed Date: 1/31/18.

Accession Number: 20180131-5108.

Comments Due: 5 p.m. ET 2/12/18.

Docket Numbers: RP18-394-000.

Applicants: Texas Gas Transmission, LLC.

Description: § 4(d) Rate Filing: Cap Rel Neg Rate Agmts (RE Gas 35433,34955 to BP 36880,36881) to be effective 2/1/2018.

Filed Date: 1/31/18.

Accession Number: 20180131-5141.

Comments Due: 5 p.m. ET 2/12/18.

Docket Numbers: RP18-395-000.

Applicants: Gulf Crossing Pipeline Company LLC.

Description: § 4(d) Rate Filing: Cap Rel Neg Rate Agmt (Newfield 18 to Tenaska 1943) to be effective 2/1/2018.

Filed Date: 1/31/18.

Accession Number: 20180131-5144.

Comments Due: 5 p.m. ET 2/12/18.

Docket Numbers: RP18-396-000.

Applicants: Iroquois Gas Transmission System, L.P.

Description: § 4(d) Rate Filing: 013118 Negotiated Rates—ENI Trading & Shipping Inc. R-7825-03 to be effective 2/1/2018.

Filed Date: 1/31/18.

Accession Number: 20180131-5157.

Comments Due: 5 p.m. ET 2/12/18.

Docket Numbers: RP18-397-000.

Applicants: Gulf South Pipeline Company, LP.

Description: § 4(d) Rate Filing: Cap Rel Neg Rate Agmts (Atlanta 8438 to various eff 2-1-2018) to be effective 2/1/2018.

Filed Date: 1/31/18.

Accession Number: 20180131-5160.

Comments Due: 5 p.m. ET 2/12/18.

Docket Numbers: RP18-398-000.

Applicants: Gulf South Pipeline Company, LP.

Description: § 4(d) Rate Filing: Cap Rel Neg Rate Agmt (PH 41455 to BP 48966) to be effective 2/1/2018.

Filed Date: 1/31/18.

Accession Number: 20180131-5165.

Comments Due: 5 p.m. ET 2/12/18.

Docket Numbers: RP18-399-000.

Applicants: Gulf South Pipeline Company, LP.

Description: § 4(d) Rate Filing: Cap Rel Neg Rate Agmt (PH 41455 to Sequent 48967) to be effective 2/1/2018.

Filed Date: 1/31/18.

Accession Number: 20180131-5167.

Comments Due: 5 p.m. ET 2/12/18.

Docket Numbers: RP18-400-000.

Applicants: Gulf South Pipeline Company, LP.

Description: § 4(d) Rate Filing: Negotiated Rate Agmts (Coastal Bend Interim Agmts) to be effective 2/1/2018.

Filed Date: 1/31/18.

Accession Number: 20180131-5168.

Comments Due: 5 p.m. ET 2/12/18.

Docket Numbers: RP18-401-000.

Applicants: Gulf South Pipeline Company, LP.

Description: § 4(d) Rate Filing: Cap Rel Neg Rate Agmt (PH 41455 to Texla 48954) to be effective 2/1/2018.

Filed Date: 1/31/18.

Accession Number: 20180131-5169.

Comments Due: 5 p.m. ET 2/12/18.

Docket Numbers: RP18-402-000.

Applicants: Tennessee Gas Pipeline Company, L.L.C.

Description: § 4(d) Rate Filing: Volume No. 2—Neg Rate Agmt—Centerpoint Energy Entex SP45306 to be effective 2/1/2018.

Filed Date: 1/31/18.

Accession Number: 20180131-5202.

Comments Due: 5 p.m. ET 2/12/18.

Docket Numbers: RP18-403-000.

Applicants: Natural Gas Pipeline Company of America.

Description: § 4(d) Rate Filing: Amended Negotiated Rate Agreement-La Frontera Holdings, LLC to be effective 2/1/2018.

Filed Date: 1/31/18.

Accession Number: 20180131-5204.

Comments Due: 5 p.m. ET 2/12/18.

Docket Numbers: RP18-404-000.

Applicants: Rockies Express Pipeline LLC.

Description: § 4(d) Rate Filing: Neg Rate 2018-01-31 Triad Hunter (2) to be effective 1/31/2018.

Filed Date: 1/31/18.

Accession Number: 20180131-5282.

Comments Due: 5 p.m. ET 2/12/18.

Docket Numbers: RP17-197-000.

Applicants: Dominion Cove Point LNG, LP.

Description: Report Filing: DECP—RP17-197 Refund Report.

Filed Date: 2/1/18.

Accession Number: 20180201-5021.

Comments Due: 5 p.m. ET 2/13/18.

Docket Numbers: RP18-405-000.

Applicants: Rockies Express Pipeline LLC.

Description: § 4(d) Rate Filing: Neg Rate 2018-1-31 EQT, Freepoint, JAron to be effective 2/1/2018.

Filed Date: 2/1/18.

Accession Number: 20180201-5000.

Comments Due: 5 p.m. ET 2/13/18.

Docket Numbers: RP18-406-000.

Applicants: Natural Gas Pipeline Company of America.

Description: § 4(d) Rate Filing: Amended Negotiated Rate Agreement-Tenaska Marketing Ventures to be effective 2/1/2018.

Filed Date: 2/1/18.

Accession Number: 20180201-5001.

Comments Due: 5 p.m. ET 2/13/18.

Docket Numbers: RP18-407-000.

Applicants: Equitrans, L.P.

Description: § 4(d) Rate Filing: Negotiated Capacity Release Agreements—2/1/2018 to be effective 2/1/2018.

Filed Date: 2/1/18.

Accession Number: 20180201-5002.

Comments Due: 5 p.m. ET 2/13/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2018.
Nathaniel J. Davis, Sr.,
Deputy Secretary.

[FR Doc. 2018-02406 Filed 2-6-18; 8:45 am]

BILLING CODE 6717-01-P